DEPARTMENT OF HEALTH AND HUMAN SERVICES

National Institutes of Health

National Institute on Aging; Amended Notice of Meeting

Notice is hereby given of a change in the meeting of the National Institute on Aging Special Emphasis Panel, June 7, 2001, 2:30 p.m. to June 7, 2001, 4 p.m., 7201 Wisconsin Avenue, Bethesda, MD, 20892 which was published in the Federal Register on May 24, 2001. 66 FR 28756.

The meeting scheduled for June 7, 2001 will now be held on June 20, 2001. The meeting is closed to the public.

Dated: May 31, 2001.
LaVerne Y. Stringfield,
Director, Office of Federal Advisory Committee Policy.

[FR Doc. 01-14359 Filed 6-6-01; 8:45 am]

BILLING CODE 4140-01-M